DEPARTMENT OF THE INTERIOR

Minerals Management Service

Privacy Act of 1974; Amendments to Existing Systems of Records

AGENCY: Minerals Management Service, Interior.

ACTION: Proposed amendment of existing Privacy Act systems of records.

SUMMARY: In accordance with the Privacy Act of 1974 (5 U.S.C. 552a), the Minerals Management Service of the Department of the Interior is issuing public notice of its intent to amend 7 existing Privacy Act system of records notices to add a new routine use to authorize the disclosure of records to individuals involved in responding to a breach of Federal data.

DATES: Comments must be received by October 5, 2009.

ADDRESSES: Any persons interested in commenting on these proposed amendments may do so by submitting comments in writing to the Minerals Management Service Privacy Act Officer, Deborah Kimball, Minerals Management Service, U.S. Department of the Interior, 381 Elden St., MS2200, Herndon, VA 20170, or by e-mail to Deborah.Kimball@mms.gov.

FOR FURTHER INFORMATION CONTACT: Minerals Management Service Privacy Act Officer, Deborah Kimball, Minerals Management Service, U.S. Department of the Interior, 381 Elden St., MS2200, Herndon, VA 20170, or by e-mail to Deborah.Kimball@mms.gov.

SUPPLEMENTARY INFORMATION: On May 22, 2007, in a memorandum for the heads of Executive Departments and Agencies entitled “Safeguarding Against and Responding to the Breach of Personally Identifiable Information,” the Office of Management and Budget directed agencies to develop and publish a routine use for disclosure of information in connection with response and remedial efforts in the event of a data breach. This routine use will serve to protect the interest of the individuals, whose information is at issue by allowing agencies to take appropriate steps to facilitate a timely and effective response to the breach, thereby improving its ability to prevent, minimize or remedy any harm resulting from a compromise of data maintained in its systems of records. Accordingly, the Minerals Management Service of the Department of the Interior is proposing to add a new routine use to authorize disclosure to appropriate agencies, entities, and persons, of information maintained in the following systems in the event of a data breach. These amendments will be effective as proposed at the end of the comment period unless comments are received which would require a contrary determination. The Minerals Management Service will publish a revised notice if changes are made based upon a review of comments received.

Dated: July 29. 2009.
Deborah Kimball,
Minerals Management Service.

SYSTEM NAMES:

INTERIOR/MMS-2

System Name:

Personal Property Accountability Records

FR Doc. 53 FR 38086; Filed 09-29-88

INTERIOR/MMS-3

System Name:

Accident Reports and Investigations

FR Doc. 53 FR 38087; Filed 09-29-88

INTERIOR/MMS-4

System Name:

Personnel Security System

FR Doc. 54 FR 41879; Filed 10-12-89

INTERIOR/MMS-5

System name:

Telephone/Employee Locator system

FR Doc. 52 FR 8976; Filed 03-20-87

INTERIOR/MMS-8

Advanced Budget/Accounting Control and Information System

FR Doc. 99-3932 Filed 2-17-99

INTERIOR/MMS-9

System name:

Employee Counseling Services Program

FR Doc. 51 FR 13100; Filed 04-17-86

INTERIOR/MMS-12

System name:

Lessee/Operator Training Files

FR Doc. 54 FR 41880; Filed 10-12-89

NEW ROUTINE USE:

Disclosures outside the Department of the Interior may be made:

To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

[FR Doc. E9-20423 Filed 8-24-09; 8:45 am]

BILLING CODE 4310-MR-P